DEPARTMENT OF TRANSPORTATION

Federal Aviation Administration

14 CFR Part 73

[Docket No. FAA-2003-15976; Airspace Docket No. 03-AWA-5]

RIN 2120-AA66

Proposed Establishment of Prohibited Area P-50; Kings Bay, GA

AGENCY: Federal Aviation Administration (FAA), DOT.

ACTION: Notice of proposed rulemaking (NPRM).

SUMMARY: This action proposes to establish a prohibited area over the U.S. Naval Submarine Base, Kings Bay, GA. The proposed prohibited area would replace a Temporary Flight Restriction (TFR) that is currently in effect. The new prohibited area would be named P-50, Kings Bay, GA. The FAA is proposing this action to enhance the security of the Naval Submarine Base, at Kings Bay, GA.

DATES: Comments must be received on or before April 12, 2004.

ADDRESSES: Send comments on this proposal to the Docket Management System, U.S. Department of Transportation, Room Plaza 401, 400 Seventh Street, SW., Washington, DC 20590-0001. You must identify both docket numbers FAA-2003-15976/Airspace Docket No. 03-AWA-5 at the beginning of your comments. You may also submit comments through the Internet to http://dms.dot.gov.

FOR FURTHER INFORMATION CONTACT: Paul Gallant, Airspace and Rules Division, ATA-400, Office of Air Traffic Airspace Management, Federal Aviation Administration, 800 Independence Avenue, SW., Washington, DC 20591; telephone: (202) 267-8783.

SUPPLEMENTARY INFORMATION:

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2003-15976 and Airspace Docket No. 03-AWA-5) and be submitted in triplicate to the Docket Management System (see ADDRESSES section for address and phone number). You may also submit comments through the Internet at http://dms.dot.gov.

Commenters wishing the FAA to acknowledge receipt of their comments on this notice must submit with those comments a self-addressed, stamped postcard on which the following statement is made: “Comments to Docket No. FAA-2003-15976/Airspace Docket No. 03-AWA-5.” The postcard will be date/time stamped and returned to the commenter. Send comments on environmental and land use aspects to: Lt. Len Schilling, Naval Submarine Base, Kings Bay, FEA, Building 2015, 1063 USS Tennessee Ave, Kings Bay, GA 31547; Telephone: 912-673-2001, ext. 4611.

All communications received on or before the specified closing date for comments will be considered before taking action on the proposed rule. The proposal contained in this notice may be changed in light of comments received. All comments submitted will be available for examination in the public docket both before and after the closing date for comments. A report summarizing each substantive public contact with FAA personnel concerned with this rulemaking will be filed in the docket.

Availability of NPRM's

An electronic copy of this document may be downloaded through the Internet at http://dms.dot.gov. Recently published rulemaking documents can also be accessed through the FAA's web page at http://www.faa.gov or the Federal Register's Web page at http://www.access.gpo.gov/nara.

You may review the public docket containing the proposal; any comments received; and any final disposition in person in the Dockets Office (see ADDRESSES section for address and phone number) between 9 a.m. and 5 p.m., Monday through Friday, except Federal holidays. An informal docket may also be examined during normal business hours at the office of the Regional Air Traffic Division, Federal Aviation Administration, 1701 Columbia Avenue, College Park, GA 30337.

Persons interested in being placed on a mailing list for future NPRM's should call the FAA's Office of Rulemaking, (202) 267-9677, to request a copy of Advisory Circular No. 11-2A, Notice of Proposed Rulemaking Distribution System, which describes the application procedure.

Discussion/Background

On September 11, 2001, the United States (U.S.) suffered catastrophic terrorist attacks involving four hijacked U.S. commercial aircraft. In response to these attacks, the FAA took action to temporarily shut down the National Airspace System, except for certain military, law enforcement, and emergency aircraft flight operations. Additionally, to hinder the potential for further airborne attacks and to specifically respond to security concerns, the FAA issued numerous TFRs, via the U.S. Notice to Airmen (NOTAM) System, to limit or prohibit aircraft flight operations in the vicinity of critical military, government, and national infrastructure locations across the country. One such location was the U.S. Naval Submarine Base at Kings Bay, GA. Beginning on September 13, 2001, the FAA issued a series of TFRs to prohibit aircraft flight operations in the vicinity of the Kings Bay base. The first NOTAM, 1/9866, prohibited aircraft operations at and below 10,000 feet above ground level (AGL) within a 10-nautical-mile (NM) radius of the base. The dimensions of this TFR encompassed the St. Marys Airport (4J6), St. Marys, GA, resulting in the temporary closure of the airport. NOTAM 1/9866 was replaced on September 14, 2001, by NOTAM 1/9948 that amended the TFR by reducing the restriction to that airspace at and below 5,000 feet AGL within a 5-NM radius of the base. On September 17, 2001, NOTAM 1/9948 was replaced by NOTAM 1/0063. NOTAM 1/0063 did not alter the dimensions of the TFR, but changed the facility in charge from the Kings Bay Naval Base, to the FAA, Jacksonville Terminal Radar Approach Control (TRACON). This NOTAM remained in effect until September 19, 2001, when NOTAM 1/0189 was issued. NOTAM 1/0189 retained the 5-NM radius, but amended the upper altitude of the TFR from 5,000 feet MSL to 4,999 feet MSL. The 5-NM radius of these latter three TFRs continued to prevent aircraft operations at the St. Marys Airport. On December 3, 2001, the FAA issued NOTAM 1/2887 which further amended the TFR by reducing its dimensions to that airspace within a 2-NM radius of a point on the base, from the surface up to but not including 3,000 feet MSL. This change removed the St. Marys Airport from the TFR airspace and enabled aircraft operations to resume at the airport. On December 1, 2003, the FAA cancelled NOTAM 1/2887 and issued NOTAM 3/1400 as a replacement. NOTAM 3/1400 was identical to 1/2887 except that the navigation aid reference was changed from the Craig, FL, VORTAC to the Brunswick, GA, VORTAC. NOTAM 3/1400 remains in effect as of the date of this notice.

U.S. Navy Request

Due to the current world situation and continued security concerns at this facility, the U.S. Navy has requested that the FAA designate a prohibited area at Kings Bay, GA, to enhance Navy security efforts at the base. This proposal responds to that request.

Statutory Authority

The FAA Administrator has broad authority to regulate the safe and efficient use of the navigable airspace (49 U.S.C. 40103(a)). The Administrator is also authorized to issue air traffic rules and regulations to govern the flight of aircraft, the navigation, protection, and identification of aircraft for the protection of persons and property on the ground, and for the efficient use of the navigable airspace. Additionally, pursuant to 49 U.S.C. section 40103(b)(3) the Administrator has the authority, in consultation with the Secretary of Defense, to “establish security provisions that will encourage and allow maximum use of the navigable airspace by civil aircraft consistent with national security.” Such provisions may include establishing airspace areas the Administrator decides are necessary in the interest of national defense; and by regulation or order, restrict or prohibit flight of civil aircraft that the Administrator cannot identify, locate and control with available facilities in those areas.

The Proposal

In response to the U.S. Navy request, the FAA is proposing an amendment to Title 14 Code of Federal Regulations (14 CFR) part 73 (part 73) to designate a prohibited area over the U.S. Naval Submarine Base, Kings Bay, GA. The proposed prohibited area, designated P-50, would consist of that airspace, from the surface to but not including 3,000 feet MSL, within a 2-NM radius of lat. 30°48′00″ N., long. 81°31′00″ W. In accordance with 14 CFR 73.83, no person may operate an aircraft within a prohibited area unless authorization has been granted by the using agency. The proposed prohibited area dimensions are identical to those contained in the TFR now in effect over the Kings Bay base. If implemented, Prohibited Area P-50 would replace the TFR at Kings Bay, GA, currently contained in NOTAM number 3/1400.

Prohibited areas in 14 CFR part 73 are republished in subpart C of FAA Order 7400.8L, dated September 2, 2003, and effective September 16, 2003. The prohibited area listed in this document would be published subsequently in the Order.

The FAA has determined that this regulation only involves an established body of technical regulations for which frequent and routine amendments are necessary to keep them operationally current. Therefore this proposed regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

Environmental Review

The FAA has determined that this action qualifies for categorical exclusion under the National Environmental Policy Act in accordance with FAA Order 1050.1D, Policies and Procedures for Considering Environmental Impacts. This airspace action is not expected to cause any potentially significant environmental impacts, and no extraordinary circumstances exist that warrant preparation on an environmental assessment.

List of Subjects in 14 CFR Part 73

Airspace, Navigation (air).

The Proposed Amendment

In consideration of the foregoing, the Federal Aviation Administration proposes to amend 14 CFR part 73 as follows:

PART 73—SPECIAL USE AIRSPACE

1. The authority citation for part 73 continues to read as follows:

Authority: 49 U.S.C. 106(g), 40103, 40113, 40120; E.O. 10854, 24 FR 9565, 3 CFR, 1959-1963 Comp., p. 389.

* * * * *

§ 73.92 [New]

2. § 73.92 is added as follows:

* * * * *

P-50 Kings Bay, GA [New]

Boundaries: That airspace within a 2-NM radius of lat. 30°48′00″ N., long. 81°31′00″ W.

Designated altitudes: Surface to but not including 3,000 feet MSL.

Time of designation: Continuous.

Using agency: Administrator, FAA, Washington, DC.

* * * * *

Issued in Washington, DC on February 18, 2004.
Reginald C. Matthews,
Manager, Airspace and Rules Division.

[FR Doc. 04-4290 Filed 2-25-04; 8:45 am]

BILLING CODE 4910-13-U